CORPORATION FOR NATIONAL AND COMMUNITY SERVICE

Submission for OMB Emergency Review

AGENCY: Corporation for National and Community Service.

ACTION: Notice.

SUMMARY: The Corporation for National and Community Service (hereinafter the “Corporation”), submitted the following two information collection requests (ICRs) to the Office of Management and Budget (OMB) for review and clearance in accordance with the Paperwork Reduction Act of 1995, (PRA 95) (44 U.S.C. Chapter 35). The Corporation requested that OMB review and approve its emergency request by April 30, 2004, for a period of six months. A copy of these ICRs, with applicable supporting documentation, may be obtained by contacting the Corporation for National and Community Service, Office of Research and Policy Development, Mr. Kevin Cramer, (202) 606-5000, Ext. 232 or by e-mail at KCramer@cns.gov.

The initial 60-day Federal Register notice for Performance Measurement in AmeriCorps was published on January 21, 2004. The initial 60-day Federal Register notice for Learn and Serve America Program and Performance Reporting System was published on January 9, 2004. The comment period for these notices have elapsed, and, since the Corporation has requested OMB's approval of these emergency requests by April 30, 2004, there will be not enough time for the public to provide further comments through this Federal Register notice prior to the requested approval date.

Part I

Type of Review: Emergency request.

Agency: Corporation for National and Community Service.

Title: Performance Measurement in AmeriCorps: Surveys of Members, Organizations and End Beneficiaries.

OMB Number: None.

Agency Number: None.

Affected Public: Nonprofit organizations, Individuals or households, State, local or tribal government.

Total Respondents: 4,000.

Frequency: One time.

Average Time Per Response: Ten (10) minutes.

Estimated Total Burden Hours: 676 hours.

Total Burden Cost (capital/startup): None.

Total Burden Cost (operating/maintenance): None.

Part II

Type of Review: Emergency request.

Agency: Corporation for National and Community Service.

Title: Learn and Serve America Program and Performance Reporting System.

OMB Number: None.

Agency Number: None.

Affected Public: Nonprofit organizations, State, local or tribal government.

Total Respondents: 2668.

Frequency: One time.

Average Time Per Response: .95 hour.

Estimated Total Burden Hours: 2542 hours.

Total Burden Cost (capital/startup): None.

Total Burden Cost (operating/maintenance): None.

Description: Under the authority of the National and Community Service Act of 1990, as amended, the Corporation was charged with employing its service programs, including AmeriCorps and Learn and Serve America, to address “the unmet human, educational, environmental, and public safety needs of the United States;” to “renew the ethic of civic responsibility and the spirit of community throughout the United States;” and to “encourage citizens * * * to engage in full-time or part-time national service.” In the fall of 2003, Congress directed the Corporation to report on its efforts to improve its performance measurement systems.

Moreover, on February 27, 2004, the President signed an Executive Order on National and Community Service “to strengthen the ability of programs authorized under the national service laws to build and reinforce a culture of service, citizenship, and responsibility throughout our Nation, and to institute reforms to improve accountability and efficiency in the administration of those programs.” The Executive Order states that, as part of its continuous improvement, the Corporation should assist programs in adopting performance measures to ensure accountability for performance and results. This order furthers the finding of the OMB's Program Assessment Rating Tool (PART) that the Corporation needs to develop its capacity to identify demonstrable performance results.

Because almost all of the programs under Learn and Serve America and a large number of programs in AmeriCorps operate on an academic calendar, and because the schedule for GPRA submissions has been moved up from February to November, it is incumbent upon the Corporation to have these survey instruments available to the various respondents no later than April of 2004. Therefore, the Corporation has requested OMB's emergency review and approval by April 30, 2004, so that it can provide outcome based data for the 2004 Performance and Accountability Report, as requested by Congress, by November, 2004. If the Corporation is granted approval by OMB for these two information collection activities, the Corporation will publish another Federal Register notice which will allow the public the opportunity to provide comments directly to the Corporation's OMB desk officer.

Dated: April 19, 2004.
David Reingold,
Director, Office of Research and Policy Development.

[FR Doc. 04-9342 Filed 4-23-04; 8:45 am]

BILLING CODE 6050-$$-P